DEPARTMENT OF AGRICULTURE

Agricultural Marketing Service

[Doc. No. AMS-AMS-25-0010]

2025/2026 Rates Charged for AMS Services

AGENCY: Agricultural Marketing Service, USDA.

ACTION: Notice.

SUMMARY: The Agricultural Marketing Service (AMS) is announcing the 2025/2026 rates it will charge for voluntary grading, inspection, certification, auditing, and laboratory services for a variety of agricultural commodities including meat and poultry, fruits and vegetables, eggs, dairy products, rice, and cotton and tobacco. The 2025/2026 regular, overtime, holiday, and laboratory services rates will be applied at the beginning of the crop year, fiscal year or as required by law depending on the commodity. Other starting dates are added to this notice based on cotton industry practices. This action establishes the rates for user-funded programs based on costs incurred by AMS. This year, cost-based analyses indicated the need to increase certain user fee rates when current rates are insufficient to cover the costs of providing the service. While cost-saving measures have and will continue to be implemented, user fee rate increases are necessary to offset rising operational costs. In cases where current rates are sufficient to cover the costs of providing the service, user fee rates remain unchanged. Furthermore, AMS is announcing the fees it will charge warehouse operators for voluntary services associated with the administration of the United States Warehouse Act, including the license action fees, service license fees, inspection fees, and annual user fees for warehouse services for fiscal year 2026, which begins October 1, 2025. This year, AMS will minimize the impact on industry by limiting any increases to cover inflationary costs only.

DATES: April 30, 2025.

FOR FURTHER INFORMATION CONTACT: Melissa Bailey, Associate Administrator, AMS, USDA, Room 2036-S, 1400 Independence Ave. SW, Washington, DC 20250; Telephone (202) 205-9356, or Email melissa.bailey@usda.gov.

SUPPLEMENTARY INFORMATION: The Agricultural Marketing Act of 1946, as amended (AMA) (7 U.S.C. 1621-1627), provides for the collection of fees to cover costs of various inspection, grading, certification, or auditing services covering many agricultural commodities and products. The AMA also provides for the recovery of costs incurred in providing laboratory services. The Cotton Statistics and Estimates Act (7 U.S.C. 471-476) and the U.S. Cotton Standards Act (7 U.S.C. 51-65) provide for classification of cotton and development of cotton standards materials necessary for cotton classification. The Cotton Futures Act (7 U.S.C. 15b) provides for futures certification services, and the Tobacco Inspection Act (7 U.S.C. 511-511s) provides for tobacco inspection and grading. Finally, the United States Warehouse Act (7 U.S.C. 241-256) provides for the licensing of public warehouse operators in the business of storing agricultural products and the examination of such federally licensed warehouses. These Acts also provide for the recovery of costs associated with these services.

I. Standardization of AMS Rates Calculations

On November 13, 2014, the U.S. Department of Agriculture (Department) published in the Federal Register a final rule that established standardized formulas for calculating the fees charged by AMS user-funded programs (79 FR 67313). On the basis of rates calculated using these formulas, AMS is to determine the fee rates necessary to sustain program services. Every year since then, the Department has published in the Federal Register a notice announcing the rates for its user-funded programs.

This notice announces the 2025/2026 fee rates for voluntary grading, inspection, certification, auditing, and laboratory services for a variety of agricultural commodities including meat and poultry, fruits and vegetables, eggs, dairy products, rice, and cotton and tobacco on a per-hour rate and, in some instances, the equivalent per-unit cost. The per-unit cost is provided to facilitate understanding of the costs associated with the service to the industries that historically used unit-cost basis for payment. Fee rates will be effective at the beginning of the fiscal year, crop year, or as required by specific laws.

Rates reflect direct and indirect costs of providing services. Direct costs include the cost of salaries, employee benefits, and, if applicable, travel and some operating costs. Indirect or overhead costs include the cost of Program and Agency activities supporting the services provided to the industry. The formula used to calculate these rates also includes operating reserve, which may add to or draw upon the existing operating reserves.

These services include the grading, inspection, or certification of quality factors in accordance with established U.S. Grade Standards or other specifications; audits or accreditation according to International Organization for Standardization (ISO) standards and/or Hazard Analysis and Critical Control Point (HACCP) principles; and other marketing claims. The quality grades serve as a basis for market prices and reflect the value of agricultural commodities to both producers and consumers. AMS' grading and certification, audit and accreditation, plant process and equipment verification, and laboratory approval services are voluntary tools paid for by the users on a fee-for-service basis. The agriculture industry can use these tools to promote and communicate the quality of agricultural commodities to consumers. Laboratory services are provided for analytic testing, including but not limited to chemical, microbiological, biomolecular, and physical analyses. AMS is required by statute to recover the costs associated with these services.

As required by the Cotton Statistics and Estimates Act (7 U.S.C. 471-476), fees for the upcoming season must be announced by June 1 of year and consultations regarding the establishment of the fee for cotton classification are to be held with U.S. cotton industry representatives. Representatives of all segments of the cotton industry, including producers, ginners, bale storage facility operators, merchants, cooperatives, and textile manufacturers were informed of general fees prior to this publication.

2025/2026 Rate Calculations

AMS calculated the rate for services, per hour per program employee, using the following formulas (a per-unit base is included for programs that charge for services on a per-unit basis):

(1) Regular rate. The total AMS grading, inspection, certification, classification, audit, or laboratory service program personnel direct pay divided by direct hours for the previous year, which is then multiplied by the next year's percentage of cost of living increase, plus the benefits rate, plus the operating rate, plus the allowance for bad debt rate. If applicable, travel expenses may also be added to the cost of providing the service.

(2) Overtime rate. The total AMS grading, inspection, certification, classification, audit, or laboratory service program personnel direct pay divided by direct hours, which is then multiplied by the next year's percentage of cost of living increase and then multiplied by 1.5, plus the benefits rate, plus the operating rate, plus an allowance for bad debt. If applicable, travel expenses may also be added to the cost of providing the service.

(3) Holiday rate. The total AMS grading, inspection, certification, classification, audit, or laboratory service program personnel direct pay divided by direct hours, which is then multiplied by the next year's percentage of cost of living increase and then multiplied by 2, plus the benefits rate, plus the operating rate, plus an allowance for bad debt. If applicable, travel expenses may also be added to the cost of providing the service.

All rates are per-hour except when a per-unit cost is noted. The specific amounts in each rate calculation are available upon request from the specific AMS program.

2025/2026 Rates
| Regular | Overtime | Holiday | Includes travel costs in rate | Start date
Cotton Fees
7 CFR Part 27—Cotton Classification Under Cotton Futures Legislation
Subpart A—Requirements; §§ 27.80-27.90 Costs of Classification and Micronaire
Cotton Standardization:
Certification for Futures Contract (Grading services for samples submitted by CCC-licensed samplers) | $4.75/bale |  |  | X | August 1, 2025.
Transfer of Certification Data to New Owner or Certified Warehouse (Electronic transfer performed) | $0.20/bale or $5.00 per page minimum |  |  | X | August 1, 2025.
7 CFR Part 28—Cotton Classing, Testing, and Standards
Subpart A—Regulations Under the United States Cotton Standards Act; §§ 28.115-28.126 Fees and Costs
Subpart D—Cotton Classification and Market News Service for Producers; § 28.909 Costs; § 28.910 Classification of Samples and Issuance of Classification Data; § 28.911 Review Classification.
Cotton Grading:
Form 1: Grading Services for Producers (submitted by licensed sampler) | $3.05/bale |  |  | X | July 1, 2025.
Form 1 Review (new sample submitted by licensed sampler) | $3.15/bale |  |  | X | July 1, 2025.
Form A Determinations (sample submitted by licensed warehouse) | $3.15/bale |  |  | X | July 1, 2025.
Form C Determinations (sample submitted by non-licensed entity; bale sampled under USDA supervision) | $3.15/bale |  |  | X | July 1, 2025.
Form D Determination (sample submitted by owner or agent; classification represents sample only) | $3.15/bale |  |  | X | August 1, 2025.
Foreign Growth Classification (sample of foreign growth cotton submitted by owner or agent; classification represents sample only) | $6.00/sample |  |  | X | August 1, 2025.
Arbitration (comparison of a sample to the official standards or a sample type) | $6.00/sample |  |  | X | August 1, 2025.
Practical Cotton Classing Exam (for non-USDA employees) | Exam: $159/applicant. Reexamination: $138/applicant |  |  | X | August 1, 2025.
Special Sample Handling (return of samples per request) | $0.50/sample |  |  | X | July 1, 2025.
Electronic Copy of Classification Record | $0.05/bale ($5.00/month minimum with any records received) |  |  | X | July 1, 2025.
Form A Rewrite (reissuance of Form 1, Form A, or Futures Certification data or combination) | $0.15/bale or $5.00/page minimum |  |  | X | August 1, 2025.
Form R (reissuance of Form 1 classification only) | $0.15/bale or $5.00/page minimum |  |  | X | August 1, 2025.
International Instrument Level Assessment | $4.00/sample |  |  | X | August 1, 2025.
Dairy Fees
7 CFR Part 58—Grading and Inspection, General Specifications for Approved Plants and Standards for Grades of Dairy Products
Subpart A—Regulations Governing the Inspection and Grading Services of Manufactured or Processed Dairy Products; §§ 58.38-58.46 Fees and Charges
Continuous Resident Grading Service | $95.00 | $116.00 | $137.00 | X | Oct 1, 2025.
Continuous Resident Grading Service 6 p.m.-6 a.m. | $105.00 | $128.00 | $151.00 | X | Oct 1, 2025.
Non-resident and Intermittent Grading Service; State Graders | $120.00 | $155.00 | $190.00 | X | Oct 1, 2025.
Non-resident Services 6 p.m.-6 a.m. (10 percent night differential) | $132.00 | $171.00 | $190.00 | X | Oct 1, 2025.
Export Certificate Services | $104.00/certificate |  |  |  | Oct 1, 2025.
Equipment Review ¹ | $135.00 | $192.00 | $249.00 |  | Oct 1, 2025.
Equipment Review 6 p.m.-6 a.m. ¹ | $148.00 | $211.00 | $249.00 |  | Oct 1, 2025.
Audit Services | $135.00 |  |  | X | Oct 1, 2025.
Special Handling | $52.00/certificate |  |  |  | Oct 1, 2025.
Uncertified Copy of Certificate | $12.00/copy |  |  |  | Oct 1, 2025.
Derogation Application | $125.00/application |  |  |  | Oct 1, 2025.
Specialty Crops Fees
7 CFR Part 51—Fresh Fruits, Vegetables and Other Products (Inspection, Certification, and Standards)
Subpart A—Requirements; §§ 51.37-51.44 Schedule of Fees and Charges at Destination Markets; § 51.45 Schedule of Fees and Charges at Shipping Point Areas
Quality and Condition Inspections for Whole Lots | $267.00/lot |  |  |  | Oct 1, 2025.
Quality and Condition Half Lot or Condition-Only Inspections for Whole Lots | $220.00/lot |  |  |  | Oct 1, 2025.
Condition—Half Lot | $204.00/lot |  |  |  | Oct 1, 2025.
Quality and Condition or Condition-Only Inspections 50 Packages or Less | $122.00/lot |  |  |  | Oct 1, 2025.
Quality and Condition or Condition-Only Inspections for Additional Lots of the Same Product | $122.00/lot |  |  |  | Oct 1, 2025.
Dockside Inspections—Each package weighing <30 lbs. | $0.044/pkg. |  |  |  | Oct 1, 2025.
Dockside Inspections—Each package weighing >30 lbs. | $0.068/pkg. |  |  |  | Oct 1, 2025.
Charge per Individual Product for Dockside Inspection | $254.00/lot |  |  |  | Oct 1, 2025.
Charge per Each Additional Lot of the Same Product | $122.00/lot |  |  |  | Oct 1, 2025.
Inspections for All Hourly Work | $129.00 | $169.00 | $209.00 |  | Oct 1, 2025.
Section 8e—Quality and Condition Inspections | $0.006675/pound |  |  |  | Oct 1, 2025.
Section 8e—Additional Lots of the Same Product | $61.00 |  |  |  | Oct 1, 2025.
Audit Services—Federal | $171.00 |  |  |  | Oct 1, 2025.
Audit Services—State | $171.00 |  |  |  | Oct 1, 2025.
GFSI Certification Fee ² | $250.00/audit |  |  |  | Oct 1, 2025.
7 CFR Part 52—Processed Fruits and Vegetables, Processed Products Thereof, and Other Processed Food Products
Subpart A—Requirements Governing Inspection and Certification; §§ 52.41-52.51 Fees and Charges
Lot Inspections | $99.00 | $128.00 | $157.00 |  | Oct 1, 2025.
In-plant Inspections Under Annual Contract (year-round) | $105.00 | $128.00 | $152.00 |  | Oct 1, 2025.
Additional Graders (in-plant) or Less Than Year-Round | $105.00 | $141.00 | $176.00 |  | Oct 1, 2025.
Audit Services—Federal | $171.00 |  |  |  | Oct 1, 2025.
Audit Services—State | $171.00 |  |  |  | Oct 1, 2025.
GFSI Certification Fee ² | $250.00/audit |  |  |  | Oct 1, 2025.
Meat Fees
7 CFR Part 54—Meats, Prepared Meats, and Meat Products (Grading, Certification, and Standards)
Subpart A—Grading of Meats, Prepared Meats, and Meat Products; §§ 54.27-54.28 Charges for Service
Scheduled Grading | $97.80 | $122.25 | $147.76 | X | Oct 1, 2025.
Unscheduled Grading | $123.00 | $142.00 | $166.00 |  | Oct 1, 2025.
Scheduled Night Differential (6 p.m.-6 a.m.) | $108.43 | $135.00 | $147.76 | X | Oct 1, 2025.
7 CFR Part 62—Agricultural Marketing Service Audit Verification and Accreditation Programs (AVAAP)
Subpart E—Fees; § 62.300 Fees and Other Costs of Service
Auditing Activities | $175.00 | $244.00 | $268.00 |  | Oct 1, 2025.
Poultry Fees
7 CFR Part 56—Voluntary Grading of Shell Eggs
Subpart A—Grading of Shell Eggs; §§ 56.45-56.54 Fees and Charges
7 CFR Part 70—Voluntary Grading of Poultry and Rabbit Products
Subpart A—Grading of Poultry and Rabbit Products; §§ 70.70-70.78 Fees and Charges
Scheduled Grading | $78.66 | $102.05 | $123.31 | X | Oct 1, 2025.
Scheduled, Night Differential (6 p.m.-6 a.m.) | $87.17 | $113.74 | $123.31 | X | Oct 1, 2025.
Scheduled, Sunday Differential | $101.00 | $129.69 | N/A | X | Oct 1, 2025.
Scheduled, Sunday and Night Differential | $112.70 | $143.51 | N/A | X | Oct 1, 2025.
Unscheduled Grading | $114.80 | $141.38 | $170.08 |  | Oct 1, 2025.
Science and Technology Fees
7 CFR Part 91—Services and General Information
Subpart I—Fees and Charges; §§ 91.37-91.45
Laboratory Testing Services | $125.00 | $143.00 | $161.00 |  | Oct 1, 2025.
Laboratory Approval Services ¹ | $188.00 | $218.00 | $249.00 | X | Jan 1, 2026
7 CFR Part 75—Provisions for Inspection and Certification of Quality of Agricultural and Vegetable Seeds
§ 75.41 General
Laboratory Testing | $79.00 | $100.00 | $125.00 |  | Oct 1, 2025.
Administrative Fee | $17.00/certificate |  |  |  | Oct 1, 2025.
Auditing Services | $158.00 | $184.00 | $209.00 |  | Oct 1, 2025.
Organization for Economic Cooperation and Development Seed Schemes for Corn Seeds | $0.44/100 pounds |  |  |  | July 1, 2025.
Organization for Economic Cooperation and Development Seed Schemes for Cotton, Soybeans, Sunflower, Sorghum, and Cereal Seeds | $0.36/100 pounds |  |  |  | July 1, 2025.
Organization for Economic Cooperation and Development Seed Schemes for Other Seeds | $0.34/100 pounds |  |  |  | July 1, 2025.
Tobacco Fees
7 CFR Part 29—Tobacco Inspection
Subpart A—Policy Statement and Regulations Governing the Extension of Tobacco Inspection and Price Support Services to New Markets and to Additional Sales on Designated Markets;
Subpart B—Requirements; §§ 29.123-29.129 Fees and Charges; § 29.500 Fees and charges for inspection and acceptance of imported tobacco
Subpart F—Policy Statement and Provisions Governing the Identification and Certification of Non-quota Tobacco Produced and Marketed in Quota Area; § 29.9251 Fees and Charges
Domestic Permissive Inspection and Certification (re-grading of domestic tobacco for processing plants, retesting of imported tobacco, and grading tobacco for research stations.) | $55.00 | $64.00 | $72.00 |  | July 1, 2025.
Export Permissive Inspection and Certification (grading of domestic tobacco for manufacturers and dealers for duty drawback consideration) | $0.0025/pound |  |  | X | July 1, 2025.
Grading for Risk Management Agency (for Tobacco Crop Insurance Quality Adjustment determinations) | $0.015/pound |  |  | X | July 1, 2025.
Pesticide Test Sampling (collection of certified tobacco sample and shipment to AMS National Science Laboratory for testing) | $0.0065/kg or $0.0029/pound |  |  | X | July 1, 2025.
Pesticide Retest Sampling (collection of certified tobacco sample from a previously sampled lot for re-testing at the AMS National Science Laboratory; fee includes shipping) | $115.00/sample and $55.00/hour |  |  | X | July 1, 2025.
Standards Course (training by USDA-certified instructor on tobacco grading procedures) | $1,250.00/person |  |  |  | July 1, 2025.
Import Inspection and Certification (grading of imported tobacco for manufacturers and dealers) | $0.0170/kg or $0.0080/pound |  |  | X | July 1, 2025.
Rice Fees
7 CFR Part 868—General Regulations and Standards for Certain Agricultural Commodities
Subpart A—Regulations; §§ 868.91 Fees for certain Federal rice inspection services
Contract (per hour per Service representative) ³ | $79.30 | $119.00 | $158.60 |  | Oct 1, 2025.
Noncontract (per hour per Service representative) ³ | $99.10 | $148.70 | $198.30 |  | Oct 1, 2025.
Export Port Services ⁴ | $0.047/cwt |  |  |  | Oct 1, 2025.
Inspection for quality (per lot, sublot, or sample inspection):
Rough rice | $69.20 |  |  |  | Oct 1, 2025.
Brown rice for processing | $65.00 |  |  |  | Oct 1, 2025.
Milled rice | $57.70 |  |  |  | Oct 1, 2025.
Factor analysis for any single factor (per sample):
Milling yield (Rough or Brown rice) | $54.00 |  |  |  | Oct 1, 2025.
All other factors (all rice) | $41.90/factor |  |  |  | Oct 1, 2025.
Total oil and free fatty acid | $62.30 |  |  |  | Oct 1, 2025.
Faxed and extra copies of certificates | $1.90/copy |  |  |  | Oct 1, 2025.
Stowage examination (service-on-request):
Ship | $49.40 (per stowage space, minimum 5 spaces per ship) |  |  |  | Oct 1, 2025.
Subsequent ship examinations | $49.40 (per stowage space, minimum 3 spaces per ship) |  |  |  | Oct 1, 2025.
Barge | $51.60/examination |  |  |  | Oct 1, 2025.
All other carriers | $18.40/examination |  |  |  | Oct 1, 2025.
Aflatoxin (Rapid Test Kit) | $47.90/test |  |  |  | Oct 1, 2025.
All Other Mycotoxins (Rapid Test Kit) | $54.00/test |  |  |  | Oct 1, 2025.
¹ Travel costs outside the United States will be added to the fee, if applicable.
² Global Food Safety Initiative (GFSI) Certification Fee—$250 per GFSI audit to recoup the costs associated with attaining technical equivalency to the GFSI benchmarking requirements.
³ Original and appeal inspection services include Sampling, grading, weighing, and other services requested by the applicant when performed at the applicant's facility.
⁴ Services performed at export locations on lots at rest.

II. The United States Warehouse Act Fees

The United States Warehouse Act (USWA) (7 U.S.C. 241-256) provides for the licensing of public warehouse operators in the business of storing agricultural products, examination of such federally licensed warehouses, and collection of fees to sustain the operation and administration of such efforts. Participation in USWA program is voluntary. Participants may choose to obtain licensing under USWA to meet State or other industry requirements. Warehouse examinations provided by AMS examine the financial status of the operation, the integrity of the commodities stored in licensed facilities, as well as the facilities themselves.

This notice announces new fees for licensing and examining warehouses storing export food aid commodities, grain, nuts, sweeteners, wool, cotton, cottonseed and dry beans. The new fees will be effective for fiscal year 2026 (FY 2026), which begins October 1, 2025. AMS is raising the license action fees, service license fees, inspection fees, and annual user fees charged to licensed warehouses over the current rates that have not been adjusted since 2019 (84 FR 37613). AMS finds it necessary to increase fees to meet projected costs for administering the USWA program.

Fees must cover all expenses for USWA administrative services including the maintenance of a sufficient operating reserve. Thus, rates for USWA services for the 2026 fiscal year and beyond demonstrate a remedial action to correct the budgetary shortfall for administration of the program. USWA requires that AMS operate in an environment suitable to affect the needs of the program and mitigate any funding risks.

The fees reflect direct and indirect costs of providing services. Direct costs include the cost of salaries, employee benefits, and, if applicable, travel and some operating costs. Indirect or overhead costs include the cost of AMS administrative activities supporting the services provided to the industry. Program costs also include maintaining an operating reserve and, depending on the balance in the reserve, may provide for adding to or drawing down the reserve to assure an appropriate balance is maintained.

Rates in this notice will be available at AMS' website, as required by 7 CFR 869.4. A schedule of fees may also be requested by contacting the Director, Warehouse and Commodity Management Division, Fair Trade Practices Program, AMS, USDA at the following updated address: 805 Pennsylvania Avenue, Mail Stop 9148, Kansas City, Missouri 64105.

2025/2026 Rates
United States Warehouse Act Fees (effective October 1, 2025)
7 CFR Part 869—Regulations for the United States Warehouse Act
Subpart A—General Provisions: § 869.4 Fees
Cotton
License Action Fee | $95
Service License Fee | $42
Inspection Fee (for each 1,000 bales) ¹ | $100
Min | $200
Max | $2,000
Annual User Fee for each warehouse location with a CCC storage agreement (licensed capacities in bales):
1-20,000 | $685
20,001-40,000 | $903
40,001-60,000 | $1,100
60,0001-80,000 | $1,307
80,001-100,000 | $1,722
100,001-120,000 | $2,056
120,001-140,000 | $2,402
140,001-160,000 | $2,747
160,001+ | $2,747
Per 5,000 bale capacity above 160,000 bales, or fraction thereof | $69
Annual User Fee for each warehouse location without a CCC storage agreement (licensed capacities in bales):
1-20,000 | $1,371
20,001-40,000 | $1,807
40,001-60,000 | $2,200
60,0001-80,000 | $2,614
80,001-100,000 | $3,444
100,001-120,000 | $4,113
120,001-140,000 | $4,804
140,001-160,000 | $5,495
160,001+ | $5,495
Per 5,000 bale capacity above 160,000 bales, or fraction thereof | $138
Cottonseed
License Action Fee | $95
Service License Fee | $42
Inspection Fee (for each 1,000 short tons) ¹ | $20
Min | $200
Max | $2,000
Annual User Fee (per 1,000 short tons, or fraction thereof) | $20
Min | $797
Dry Beans
License Action Fee | $95
Service License Fee | $42
Inspection Fee (for each 1,000 hundred weight) ¹ | $20
Min | $200
Max | $2,000
Annual User Fee (licensed capacity in hundredweight): |
100-90,000 | $980
90,001-150,000 | $1,371
150,001-300,000 | $1,775
300,001-450,000 | $2,168
450,001-600,000 | $2,556
600,001-720,000 | $2,939
720,001-900,000 | $3,343
900,001-1,200,000 | $3,741
1,200,001-1,500,000 | $4,124
1,500,001-3,000,000 | $4,512
3,000,000+ | $4,700
Per 1,000 hundredweight above 3,000,000, or fraction thereof | $1.55
Monthly Emergency Storage Fee per 10,000 Hundredweight ² | $5
Export Food Aid Commodities
License Action Fee | $116
Service License Fee (per location) | $900
Inspection Fee (per location) | $1,000
Grain
License Action Fee | $95
Service License Fee | $42
Inspection Fee (for each 10,000 bushels) ¹ | $20
Min | $200
Max | $2,000
Annual User Fee for each warehouse location with a CCC storage agreement (licensed capacities in bushels):
1-150,000 | $180
150,001-250,000 | $361
250,001-500,000 | $531
500,001-750,000 | $717
750,001-1,000,000 | $892
1,000,001-1,200,000 | $1,073
1,200,001-1,500,000 | $1,254
1,500,001-2,000,000 | $1,424
2,000,001-2,500,000 | $1,610
2,500,001-5,000,000 | $1,785
5,000,001-7,500,000 | $1,971
7,500,001-10,000,000 | $2,152
10,000,001+ | $2,152
Per million bushels above 10,000,000, or fraction thereof | $58
Monthly Emergency Storage Fee per 50,000 Bushels. (Each warehouse location with a CCC storage agreement) ² | $5
Annual Fee for each warehouse location without a CCC storage agreement (licensed capacities in bushels):
1-150,000 | $361
150,001-250,000 | $722
250,001-500,000 | $1,063
500,001-750,000 | $1,435
750,001-1,000,000 | $1,785
1,000,001-1,200,000 | $2,147
1,200,001-1,500,000 | $2,508
1,500,001-2,000,000 | $2,848
2,000,001-2,500,000 | $3,220
2,500,001-5,000,000 | $3,571
5,000,001-7,500,000 | $3,943
7,500,001-10,000,000 | $4,305
10,000,001+ | $4,305
Per million bushels above 10,000,000, or fraction thereof | $111
Monthly Emergency Storage Fee per 50,000 Bushels. (Each warehouse location without a CCC storage agreement) ² | $10
Nuts
License Action Fee | $95
Service License Fee | $42
Inspection Fee: ¹
Per 100 short tons of peanuts | $9.90
Per 1,000 hundredweight | $18
Min | $200
Max | $2,000
Annual Fee for each warehouse location with a CCC storage agreement (licensed capacities in short tons):
1-4,500 | $292
4,501-7,500 | $478
7,501-15,000 | $680
15,001-22,500 | $871
22,501-30,000 | $1,057
30,001-36,000 | $1,238
36,001-45,000 | $1,424
45,001-60,000 | $1,610
60,001-75,000 | $1,796
75,001-150,000 | $1,977
150,001-225,000 | $2,152
225,001+ | $2,250
Per 100 short tons capacity above 225,000 short tons, or fraction thereof | $1
Annual Fee for each warehouse location without a CCC storage agreement (licensed capacities in short tons):
1-4,500 | $584
4,501-7,500 | $956
7,501-15,000 | $1,360
15,001-22,500 | $1,743
22,501-30,000 | $2,115
30,001-36,000 | $2,476
36,001-45,000 | $2,848
45,001-60,000 | $3,220
60,001-75,000 | $3,592
75,001-150,000 | $3,954
150,001-225,000 | $4,294
225,001+ | $4,500
Per 100 short tons capacity above 225,000 short tons, or fraction thereof | $2
Sweeteners
License Action Fee | $95
Service License Fee | $42
Inspection Fee: ¹
Per 5,000 gallons of liquid | $7.50
Per 55,000 pounds of dry capacity | $7.50
Min | $200
Max | $2,000
Annual User Fee:
Per 5,000 gallons of liquid, or fraction thereof | $7.50
Per 55,000 pounds of dry capacity, or fraction thereof | $7.50
Min | $797
Wool
License Action Fee | $95
Service License Fee | $42
Inspection Fee (for each 100,000 pounds) ¹ | $20
Min | $190
Max | $1,900
Annual User Fee (per 100,000 pounds, or fraction thereof) | $20
Min | $797
¹ Inspection Fees are charged by Functional Unit.
² The storage fee will be billed when the emergency storage action is closed or annually if the storage remains active that over a year.

Authority: 7 U.S.C. 15b; 7 U.S.C. 473a-b; 7 U.S.C. 55 and 61; 7 U.S.C. 51-65; 7 U.S.C. 471-476; 7 U.S.C. 511-511s; 7 U.S.C. 1621-1627 and 7 U.S.C. 241-256.

Melissa Bailey,
Associate Administrator, Agricultural Marketing Service.

[FR Doc. 2025-07349 Filed 4-28-25; 8:45 am]

BILLING CODE P